DEPARTMENT OF THE INTERIOR

Fish and Wildlife Service

[Docket No. FWS-R6-ES-2022-0136; FF06E24000-234-FXES11140600000]

Incidental Take Permit Application; Habitat Conservation Plan and Categorical Exclusion for the Preble's Meadow Jumping Mouse; Douglas County, Colorado

AGENCY: Fish and Wildlife Service, Interior.

ACTION: Notice of availability of documents; request for comments.

SUMMARY: We, the U.S. Fish and Wildlife Service, announce the availability of documents related to an application for an incidental take permit (permit) under the Endangered Species Act. The St. Charles Town Company has applied for a permit, which, if granted, would authorize take of the federally threatened Preble's meadow jumping mouse (Zapus hudsonius preblei) that is likely to occur incidental to proposed construction of commercial and industrial building space known as Brookside Business Center. The documents available for review and comment are the applicant's habitat conservation plan, which is part of the permit application, and our draft environmental action statement and low-effect screening form, which support a categorical exclusion under the National Environmental Policy Act. We invite comments from the public and local, State, Tribal, and Federal agencies.

DATES: We will accept comments received or postmarked on or before January 20, 2023. Comments submitted online at https://www.regulations.gov (see ADDRESSES) must be received by 11:59 p.m. Eastern Time on the closing date.

ADDRESSES:

Obtaining Documents: The documents this notice announces, as well as any comments and other materials that we receive, will be available for public inspection online in Docket No. FWS-R6-ES-2022-0136 at https://www.regulations.gov.

Submitting Comments: You may submit comments by one of the following methods:

• Online: http://www.regulations.gov. Follow the instructions for submitting comments on Docket No. FWS-R6-ES-2022-0136.

• U.S. mail: Public Comments Processing, Attn: Docket No. FWS-R6-ES-2022-0136; U.S. Fish and Wildlife Service Headquarters, MS: PRB/3W; 5275 Leesburg Pike; Falls Church, VA 22041-3803.

We request that you send comments by only one of the methods described above.

FOR FURTHER INFORMATION CONTACT: Liisa M. Niva, by phone at 303-905-4543, or by email at Liisa_Niva@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from the St. Charles Town Company for a 10-year incidental take permit (permit) under the Endangered Species Act of 1973, as amended (ESA; 16 U.S.C. 1531 et seq.). The application addresses the potential for take of the federally threatened Preble's meadow jumping mouse (Zapus hudsonius preblei; PMJM) that is likely to occur incidental to proposed construction of commercial and industrial building space.

The documents available for review and comment are the applicant's habitat conservation plan (HCP), which is part of the permit application, and our draft environmental action statement and low-effect screening form. These documents helped inform our conclusion that the activities proposed in the HCP will have a low effect on the species and the human environment. Accordingly, our issuance of a permit qualifies for a categorical exclusion under the National Environmental Policy Act of 1969 (NEPA; 42 U.S.C. 4321 et seq.).

Applicant's Habitat Conservation Plan

The St. Charles Town Company has submitted a low-effect HCP in support of an application for a permit to address take of the species that is likely to occur as the result of proposed construction of commercial and industrial building space (covered activities) on approximately 16.8 acres (ac) in Douglas County, Colorado. The covered activities are anticipated to affect 3.53 ac of PMJM habitat. The requested permit duration is for 10 years. The biological goals and objectives are to minimize and avoid impacts to PMJM habitat, avoid reduction of PMJM survival and recovery, and restore and enhance PMJM habitat post-construction. The proposed mitigation and minimization measures include protection of 5.15 acres of high-quality upland and riparian PMJM habitat. Impacts will be minimized by restricting human access to PMJM habitat, limiting the establishment and spread of noxious weeds, and restoration of areas temporarily impacted by construction.

Public Availability of Comments

Written comments we receive become part of the decision file associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Endangered Species Act (16 U.S.C. 1531 et seq.) and its implementing regulations (50 CFR 17.32(b)) and under the National Environmental Policy Act (42 U.S.C. 4321 et seq.) and its implementing regulations (40 CFR 1506.6).

Drue DeBerry,
Acting Assistant Regional Director, Ecological Services, Mountain-Prairie Region, U.S. Fish and Wildlife Service.

[FR Doc. 2022-27695 Filed 12-20-22; 8:45 am]

BILLING CODE 4333-15-P